FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Mitigation Directorate, Federal Emergency Management Agency, 500 C Street SW., Washington, DC 20472, (202) 646-3461, or (email) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR Part 10, Environmental Consideration. No environmental impact assessment has been prepared.

Regulatory Flexibility Act

The Associate Director, Mitigation Directorate, certifies that this rule is exempt from the requirements of the Regulatory Flexibility Act because final or modified base flood elevations are required by the Flood Disaster Protection Act of 1973, 42 U.S.C. 4104, and are required to establish and maintain community eligibility in the National Flood Insurance Program. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD)
CONNECTICUT
Middletown (City), Middlesex County (FEMA Docket Nos. 7275 and 7307)
Mattabasset River:
Approximately 60 feet downstream of State Route 72 | *23
At upstream county boundary (approximately 2,590 feet upstream of Industrial Park Road) | *23
Miner Brook:
At confluence with Mattabasset River | *23
Approximately 50 feet downstream of abandoned railroad | *23
Sawmill Brook:
At confluence with Mattabasset River | *23
Approximately 1,530 feet downstream of Aetna Entrance Road | *24
Longhill Brook:
Approximately 130 feet downstream of South Main Street | *52
Just upstream of Wesleyan Road | *187
Longhill Brook Diversion Channel:
At the downstream confluence with Longhill Brook | *82
At the upstream confluence with Longhill Brook | *98
Roundhill Brook:
At the confluence with Longhill Brook | *88
Maps available for inspection at the Municipal Building, Planning and Zoning Room, 245 DeKoven Drive, Middletown, Connecticut.
———
South Windsor (Town), Hartford County (FEMA Docket No. 7307)
Avery Brook:
Approximately 1,475 feet downstream of Benedict Drive | *176
Approximately 340 feet downstream of Beelzebub | *226
Maps available for inspection at the South Windsor Town Hall, 1540 Sullivan Avenue, South Windsor, Connecticut.
DELAWARE
New Castle County (Unincorporated Areas (FEMA Docket No. 7303)
Unnamed Tributary to Mill Creek:
Just upstream of Loblolly Court | *267
Approximately 870 feet upstream of Loblolly Court | *281
Maps available for inspection at the New Castle Government Center, 87 Reads Way, New Castle, Delaware.
GEORGIA
Americus (City), Sumner County (FEMA Docket No. 7307)
Town Creek:
Approximately 500 feet downstream of Magnolia Street | *330
Approximately 225 feet upstream of Rigas Road | *373
Mill Creek Tributary:
Approximately 800 feet downstream of CSX Transportation | *339
Approximately 100 feet upstream of State Route 27 | *385
Maps available for inspection at the Americus City Hall, Community Development Department, 101 West Lamar Street, Americus, Georgia.
———
Sumter County (Unincorporated Areas) (FEMA Docket No. 7307)
Muckalee Creek:
At the confluence of Mill Creek | *321
Approximately 1,800 feet upstream of confluence of Wolf Creek | *333
Mill Creek Tributary:
Approximately 700 feet downstream of CSX Transportation | *339
Approximately 1,500 feet downstream of U.S. Route 280 | *375
Maps available for inspection at the Code Enforcement Office, Sumter County Courthouse, West Lamar Street, Americus, Georgia.
ILLINOIS
Beach Park (Village), Lake County (FEMA Docket No. 7307)
Bull Creek (near Waukegan):
Just upstream of Talmadge Avenue | *625
Approximately 725 feet upstream of the upstream crossing of Beach Road | *667
Maps available for inspection at the Beach Park Village Hall, 11270 West Wadsworth Road, Beach Park, Illinois.
———
Bloomington (City), McLean County (FEMA Docket No. 7783)
Goose Creek:
At confluence with Sugar Creek | *740
Approximately 970 feet downstream of U.S. Route 51 | *797
High School Branch:
At confluence with Sugar Creek | *770
Approximately 1,960 feet upstream of Towanda Avenue | *810
Little Kickapoo Creek:
At upstream side of Ireland Grove Road | *818
Approximately 2,700 feet upstream of Lincoln Street | *823
Brookridge Branch:
Approximately 450 feet upstream of confluence with Little Kickapoo Creek | *819
Approximately 1,900 feet upstream of Hershey Road | *827
Skunk Creek:
Approximately 650 feet upstream of confluence with Sugar Creek | *744
Approximately 1,120 feet upstream of Market Street | *746
East Tributary Skunk Creek:
Approximately 550 feet upstream of White Oak Road | *763
Approximately 1,050 feet upstream of White Oak Road | *763
Sugar Creek:
At downstream side of Interstate Routes 55 and 74 | *738
At downstream side of Airport Road | *810
Maps available for inspection at the City of Bloomington Engineering and Water Department, 109 East Olive Street, Bloomington, Illinois.
———
McLean County (Unincorporated Areas) (FEMA Docket No. 7287)
Sugar Creek:
Approximately 230 feet downstream of Stringtown Road | *697
At downstream side of Airport Road | *810
East Tributary Skunk Creek:
At confluence with Skunk Creek | *756
At Norfolk and Western Railway | *757
Skunk Creek:
At confluence with Sugar Creek | *744
Approximately 625 feet downstream of Interstate Routes 55 and 74 | *780
North Branch Sugar Creek Tributary:
Approximately 625 feet upstream of confluence with North Branch Sugar Creek | *781
At downstream side of Koerner Street | *812
North Branch Sugar Creek:
Approximately 125 feet upstream of Fort Jesse Road | *790
Approximately 225 feet upstream of Raab Road | *814
Brookridge Branch:
At confluence with Little Kickapoo Creek | *819
Approximately 2,020 feet upstream of Hershey Road | *827
Little Kickapoo Creek:
Approximately 250 feet downstream of County Road 800 | *739
Just downstream of Lincoln Street | *820
Butcher's Lane Tributary:
Approximately 240 feet downstream of Butchers Lane | *761
At upstream side of Butchers Lane | *765
Goose Creek:
Approximately 325 feet upstream of West Oakland County Road | *740
Just upstream of Morris Avenue | *771
Short Point Creek Tributary A:
1,120 feet upstream from U.S. Route 51 | *739
1,960 feet upstream from U.S. Route 51 | *744
West Branch Sugar Creek:
Upstream of Raab Road | *817
Maps available for inspection at the McLean County Building and Zoning Department, 104 West Front Street, Bloomington, Illinois.
———
Normal (Town), McLean County (FEMA Docket No. 7283)
North Branch Sugar Creek:
At confluence with Sugar Creek | *762
Approximately 100 feet upstream of Fort Jesse Road | *790
Skunk Creek:
Approximately 200 feet upstream of College Avenue | *780
At downstream side of Gregory Street | *786
East Tributary Skunk Creek:
At Norfolk and Western Railroad | *757
Approximately 20 feet upstream of Hovey Avenue | *763
Sugar Creek:
Approximately 225 feet upstream of confluence of West Branch Sugar Creek | *754
Approximately 50 feet downstream of Veterans Parkway | *790
West Branch Sugar Creek:
Approximately 120 feet upstream of confluence with Sugar Creek | *754
At upstream side of Gulf Course weir | *811
West Branch Sugar Creek Tributary:
At confluence with West Branch | *800
Approximately 840 feet upstream of confluence with West Branch | *805
Linden Street Drain:
At upstream side of Sycamore Street | *792
Approximately 625 feet upstream of Shelbourne Drive | *810
Maps available for inspection at the Normal Town Hall, 100 East Phoenix Avenue, Normal, Illinois.
Waukegan (City), Lake County (FEMA Docket Nos. 7307 and 7263)
Bull Creek (near Waukegan):
Approximately 175 feet upstream of North Shore Avenue | *651
Just upstream of the upstream crossing of Beach Road | *665
Des Plaines River:
Approximately 2.1 miles downstream of Belvidere Road | *661
Approximately 1.2 miles downstream of Belvidere Road | *662
Suburban Country Club Tributary:
Approximately 1,750 feet upstream of Unnamed Road | *668
Approximately 200 feet upstream of Delaney Road | *668
Maps available for inspection at the Waukegan City Engineer's Office, 106 North Utica Street, Waukegan, Illinois.
MAINE
Andrews Island, Knox County (FEMA Docket No. 7307)
Atlantic Ocean:
Approximately 2,000 feet northeast of Nash Point | *20
At the island of The Neck, west side of Andrews Island | *10
Maps available for inspection at the Andrews Island Key Bank Building, 286 Water Street, 5th Floor, Augusta, Maine.
MICHIGAN
Meridian (Charter Township), Ingham County (FEMA Docket No. 7243)
Herron Creek:
At upstream side of CSX Transportation | *847
At Jolly Road | *854
Smith Drain:
At confluence with Red Cedar River | *847
At Jolly Road | *874
Maps available for inspection at the Charter Township of Meridian Municipal Building, 5151 Marsh Road, Okemos, Michigan.
NEW YORK
Frankfort (Village), Herkimer County (FEMA Docket No. D7500)
Mohawk River:
Approximately 0.38 mile downstream of Railroad Street | *395
Approximately 0.31 mile downstream of upstream corporate limits | *397
Maps available for inspection at the Frankfort Village Hall, Clerk's Office, 126 East Orchard Street, Frankfort, New York.
———
Italy (Town), Yates County (FEMA Docket No. D7500)
Lake Canandaigua:
Entire shoreline within community | *692
Maps available for inspection at the Italy Town Clerk's Office, 6085 Italy Valley Road, Naples, New York.
———
Lancaster (Town), Erie County (FEMA Docket No. 7307)
Little Buffalo Creek:
At confluence with Cayuga Creek | *679
At a point approximately 1,200 feet upstream of Schwartz Road | *711
Scajaquada Creek:
At Service Place | *697
At a point approximately 600 feet upstream of Stoneledge Drive | *711
Plum Bottom Creek:
Upstream side of Steinfeldt Road | *686
At a point approximately 720 feet upstream of Cemetery Road | *702
Ellicott Creek:
Approximately 1,700 feet upstream of Transit Road | *702
Approximately 100 feet upstream of Pavement Road | *729
Maps available for inspection at the Town of Lancaster Building Inspector's Office, 11 West Main Street, Lancaster, New York. New York
———
Monroe (Town), Orange County (FEMA Docket No. 7307)
Palm Brook:
Approximately 72 feet upstream of State Route 17 | *657
Approximately 0.3 mile upstream of Raywood Drive | *760
Maps available for inspection at the Town of Monroe Building Department, 11 Stage Road, Monroe, New York.
———
Oneida (City), Madison County (FEMA Docket No. 7307)
Higinbotham Brook:
At abandoned railroad | *428
Approximately 460 feet upstream of State Route 5 | *479
Maps available for inspection at the City of Oneida Municipal Building, 109 Main Street, Oneida, New York.
OHIO
Lucas County (Unincorporated Areas) (FEMA Docket Nos. 7227, 7295, and 7311)
Ottawa River:
At the State boundary | *580
Approximately 0.5 mile upstream of Summit Street | *580
Maumee Bay:
Approximately 1,500 feet east of the intersection of 103rd Street and Summit Street | *580
Maumee Bay:
Approximately 1,000 feet northeast of the intersection of Breakwater Drive and Haigh Street | *579
Lake Erie:
At the intersection of Decant Road and Arquette Road | *579
Sautter Ditch:
At Cedar Point Road
Approximately 60 feet downstream of the confluence of Wolf Ditch | *579
Berger Ditch:
At mouth at Maumee Bay
Just downstream of Cedar Point Road | *579
Cedar Creek:
At the confluence with Reno Side Cut and Wards Canal | *579
Just downstream of Lyon Road | *579
Drennan Ditch:
An area approximately 1,350 feet west of the intersection of Columbus Street and Kipling Drive | *634
Zaleski Ditch:
At the confluence with Cairl Ditch | *641
At Whitehouse-Spencer Road | *667
Haefner Ditch:
Approximately 650 feet downstream of I-475 | *638
At the confluence of Vanderpool Ditch | *641
Vanderpool Ditch:
At the confluence with Haefner Ditch | *641
At North King Road | *658
Wolf Creek:
Approximately 100 feet upstream of Holland-Sylvania Road | *607
At confluence of Everett Ditch | *636
Approximately 50 feet upstream of South Eber Road | *659
Hill Ditch:
Approximately 450 feet downstream of I-475 | *652
At Central Avenue | *641
Stone Ditch:
Upstream side of Salisbury Road | *641
Approximately 75 feet upstream of Weckerly Road | *648
Potter Ditch:
Upstream side of Derbyshire Road | *636
Approximately 0.4 mile upstream of McCord Road | *649
Comstock Ditch:
At confluence with Smith Ditch North | *669
Approximately 140 feet upstream of Brint Road | *674
Smith Ditch North:
Approximately 1,150 feet upstream of confluence with Tenmile Creek | *660
At confluence of Comstock Ditch | *669
Sharp Ditch:
At confluence of Comstock Ditch | *669
At Brint Road | *677
Heldman Ditch (East):
Upstream side of Hill Avenue | *635
Approximately 1,650 feet downstream of Crissey Road | *669
Schrieber Ditch:
Upstream side of Centennial Road | *678
Approximately 0.6 mile upstream of Winterhaven Drive | *685
Smith Ditch (South):
At the confluence with Hill Ditch | *641
At King Road | *662
Blystone Ditch:
Approximately 1,400 feet upstream of Black Road | *633
Downstream side of State Route 64 | *648
Swan Creek:
Approximately 1,400 feet downstream of Whitehouse-Spencer Road | *646
Upstream side of Berkey-Southern Road | *648
Cairl Ditch:
At confluence with Wolf Creek | *609
Approximately 50 feet downstream of Perrysburg-Holland Road | *609
Approximately 200 feet downstream of Ohio Turnpike | *639
Confluence of Zaleski Ditch | *641
Whidden Ditch:
At I-475 | *595
Approximately 0.4 mile upstream of Norfolk and Western Railway | *644
Maumee River:
Downstream side of Interstate 475 | *595
Approximately 1.1 miles upstream of Norfolk and Western Railway | *650
Maumee:
Entire shoreline within the county | *579
Drennan Ditch:
Approximately 1,260 feet downstream of Private Drive | *634
At Private Drive | *634
Maps available for inspection at the Lucas County Engineering Office, One Government Center, Suite 801, Toledo, Ohio.
———
Newark (City), Licking County (FEMA Docket No. 7303)
North Fork Licking River:
Approximately 360 feet upstream of confluence with Licking River | *813
Approximately 4,752 feet upstream of Manning Street | *830
Maps available for inspection at the Newark City Hall, Engineering Department, 40 West Main Street, Newark, Ohio.
PENNSYLVANIA
Ayr (Township), Fulton County (FEMA Docket No. 7307)
Big Cove Creek:
Approximately 0.6 mile downstream of the corporate limits | *848
At the corporate limits | *865
Maps available for inspection at the Ayr Township Building, 979 Buchanan Trail, McConnellsburg, Pennsylvania.
———
McConnellsburg (Borough), Fulton County (FEMA Docket No. 7307)
Big Cove Creek:
At the corporate limits (south) | *855
At the corporate limits (north) | *871
Maps available for inspection at the Fulton County Courthouse, North 2nd Street, McConnellsburg, Pennsylvania.
———
Todd (Township), Fulton County (FEMA Docket No. 7307)
Big Cove Creek:
Approximately 50 feet downstream of State Route 16 | *865
Approximately 0.6 mile upstream of State Route 16 | *887
Maps available for inspection at the Todd Township Building, 2998 East Dutch Corner Road, McConnellsburg, Pennsylvania.
WISCONSIN
West Baraboo (Village), Sauk County (FEMA Docket No. 7271)
Baraboo River:
Approximately 1,350 feet downstream of Shaw Street | *843
Approximately 0.4 mile upstream of U.S. Route 12 | *854
Maps available for inspection at the West Baraboo Village Hall, 500 Cedar Street, Baraboo, Wisconsin.
———
Ironton (Village), Sauk County (FEMA Docket No. 7271)
Little Baraboo River:
At downstream corporate limits | *903
At upstream corporate limits | *904
Maps available for inspection at the Ironton Community Center, 290 Main Street, LaValley, Wisconsin.
———
Lake Delton (Village), Sauk County (FEMA Docket No. 7271)
Wisconsin River:
At downstream corporate limits | *824
At upstream corporate limits | *825
Maps available for inspection at the Lake Delton Village Office, 50 Wisconsin Dells Parkway South, Lake Delton, Wisconsin.
———
LaValle (Village), Sauk County (FEMA Docket No. 7271)
Baraboo River:
Approximately 2,700 feet upstream of State Route 33 | *892
Approximately 2,075 feet upstream of State Route 58 | *894
Maps available for inspection at the LaValle Village Office, 103 West Main Street, LaValle, Wisconsin.
———
Merrimac (Village), Sauk County (FEMA Docket No. 7271)
Wisconsin River:
At downstream corporate limits | *775
At upstream corporate limits | *776
Maps available for inspection at the Merrimac Village Hall, 100 Cook Street, Merrimac, Wisconsin.
———
North Freedom (Village), Sauk County (FEMA Docket No. 7271)
Baraboo River:
Approximately 0.53 mile upstream of the downstream crossing of the North Western railroad | *864
Approximately 1.08 miles upstream of Mid-Continent Railway | *867
Maps available for inspection at the North Freedom Village Office, 103 North Maple, North Freedom, Wisconsin.
———
Plain (Village), Sauk County (FEMA Docket No. 7271)
Honey Creek:
Approximately 1,000 feet northeast of the intersection of Main Street and Bridge Road | *799
Maps available for inspection at the Plain Village Clerk's Office, 1015 Cedar Street, Plain, Wisconsin.
———
Prairie du Sac (Village), Sauk County (FEMA Docket No. 7271)
Wisconsin River:
At downstream corporate limits | *748
At upstream corporate limits | *749
Maps available for inspection at the Prairie du Sac Village Hall, 280 Washington Street, Prairie du Sac, Wisconsin.
———
Reedsburg (City), Sauk County (FEMA Docket No. 7271)
Baraboo River:
Approximately 400 feet upstream of Golf Course Road | *876
Approximately 1 mile upstream of State Route 23/33 | *880
Maps available for inspection at the Reedsburg City Hall, 134 South Locust Street, Reedsburg, Wisconsin.
———
Rock Springs (Village), Sauk County (FEMA Docket No. 7271)
Baraboo River:
Approximately 1,480 feet downstream of State Highway 136 (East Broadway) | *870
At downstream side of Chicago and Northwestern (approximately 3,400 feet upstream of confluence with Narrows Creek) | *871
Narrows Creek:
At the confluence with the Baraboo River | *870
Approximately 1,400 feet downstream of State Route 154 | *870
Maps available for inspection at the Rock Springs Village Hall, 110 East Broadway, Rock Springs, Wisconsin.
———
Sauk City (Village), Sauk County (FEMA Docket No. 7271)
Wisconsin River:
At downstream corporate limits | *743
At upstream corporate limits | *748
Maps available for inspection at the Sauk City Village Hall, 726 Water Street, Sauk City, Wisconsin.
———
Sauk County (Unincorporated Areas) (FEMA Docket No. 7271)
Seeley Creek:
At confluence with Baraboo River | *864
Approximately 0.5 mile upstream of County Highway W | *864
Little Baraboo River:
At confluence with Baraboo River | *892
Approximately 160 feet downstream of State Route 58 | *894
Narrows Creek Split Flow:
At the confluence with Narrows Creek | *914
Approximately 6,400 feet upstream of the confluence with Narrows Creek | *925
Wisconsin River:
Approximately 1,000 feet downstream of State Route 130 | *701
Just downstream of Kilbourn Dam | *827
Narrows Creek:
Approximately 0.60 mile upstream of the confluence with the Baraboo River | *870
Just downstream of State Route 154 | *924
Baraboo River:
At county boundary (Sauk/Columbia county line) approximately 2.55 miles downstream of State Route 33 | *806
Approximately 0.56 mile upstream of County Road G | *910
Maps available for inspection at the Sauk County Courthouse, 510 Broadway, Baraboo, Wisconsin.
———
Spring Green (Village), Sauk County (FEMA Docket No. 7271)
Wisconsin River:
Approximately 1.3 miles downstream of State Highway 23 bridge | *710
Approximately 500 feet upstream of State Highway 23 bridge | *712
Maps available for inspection at the Spring Green Village Hall, 112 West Monroe Street, Spring Green, Wisconsin.
———
West Baraboo (Village), Sauk County (FEMA Docket No. 7271)
Baraboo River:
Approximately 1,350 feet downstream of Shaw Street | *843
Approximately 0.4 mile upstream of U.S. Route 12 | *854
Maps available for inspection at the West Baraboo Village Hall, 500 Cedar Street, Baraboo, Wisconsin.
———
Wisconsin Dells (City), Sauk and Columbia Counties (FEMA Docket Nos. 7271 and 7283)
Hulbert Creek:
Approximately 30 feet upstream of U.S. Highway 12 | *826
Approximately 2,340 feet upstream of Trout Road | *829
Wisconsin River:
At downstream corporate limit | *824
At downstream side of Kilbourn Dam | *827
Maps available for inspection at the Wisconsin Dells City Hall, 300 La Crosse Street, Wisconsin Dells, Wisconsin.

(Catalog of Federal Domestic Assistance No. 83.100, “Flood Insurance.”)
Dated: October 16, 2000.
Michael J. Armstrong,
Associate Director for Mitigation.

[FR Doc. 00-27643 Filed 10-26-00; 8:45 am]

BILLING CODE 6718-04-P